DEPARTMENT OF THE INTERIOR

U.S. Geological Survey

Call for Nominations to the National Geospatial Advisory Committee

AGENCY: U.S. Geological Survey, Interior.

ACTION: Call for nominations, National Geospatial Advisory Committee.

SUMMARY: The Department of the Interior, after consultation with the General Services Administration, is establishing the National Geospatial Advisory Committee under the authority of the Federal Advisory Committee Act (FACA). The Committee will provide advice and recommendations to the Federal Geographic Data Committee (FGDC), through the FGDC Chair (the Secretary of the Interior or designee), related to management of Federal geospatial programs, the development of the National Spatial Data Infrastructure (NSDI), and the implementation of Office of Management and Budget (OMB) Circular A-16 and Executive Order 12906. The Committee will review and comment upon geospatial policy and management issues and will provide a forum to convey views representative of non-Federal stakeholders in the geospatial community.

DATES: Requests to participate on this Committee must be postmarked by June 28, 2007.

ADDRESSES: Send nominations electronically to ngacnominations@fgdc.gov, or by mail to John Mahoney, U.S. Geological Survey, U.S. Department of the Interior, 909 First Avenue, Suite 422, Seattle, WA 98104.

Nominations should include:

1. A statement summarizing the nominee's qualifications and interest in Committee membership and describing the nominee's ability to represent a stakeholder group.

2. A biographical sketch, resume, or vita.

3. A list of three references or endorsements.

4. Contact information for the nominee.

FOR FURTHER INFORMATION CONTACT: John Mahoney, USGS (206-220-4621).

SUPPLEMENTARY INFORMATION: The Committee will conduct its operations in accordance with the provisions of the FACA. It will report to the Secretary of the Interior through the Chair of the FGDC Steering Committee and will function solely as an advisory body. The Committee will provide recommendations and advice to the Department and the FGDC on policy and management issues related to the effective operation of Federal geospatial programs.

The Secretary of the Interior will appoint Committee members and their alternates to the Committee to serve 2-year terms. The Committee will be comprised of approximately 20-25 representatives, who will be selected to generally achieve a balanced representation of the viewpoints of the various stakeholders involved in national geospatial activities and the development of the NSDI.

Nominations will be reviewed by the FGDC. Additional information may be requested from nominees. Final selection and appointment of committee members will be made by the Secretary of the Interior.

The Committee is expected to meet approximately 3-4 times per year. Committee members will serve without compensation. Travel and per diem costs will be provided for Committee members by USGS. The USGS will provide necessary support services to the Committee. Committee meetings will be open to the public. Notice of committee meetings will be published in the Federal Register at least 15 days before the date of the meeting. The public will have an opportunity to provide input at these meetings.

In accordance with FACA, a copy of the Committee's charter will be filed with the Committee Management Secretariat, General Services Administration. A draft charter for the NGAC is available at: http://www.fgdc.gov/participation/steering-committee/meeting-minutes/feb07-sc/faca/charter-draft.

Dated: May 8, 2007.
Ivan DeLoatch,
Staff Director, Federal Geographic Data Committee.

[FR Doc. 07-2358 Filed 5-11-07; 8:45 am]

BILLING CODE 4311-AM-M